INTERNATIONAL TRADE COMMISSION

Sunshine Act Meeting

AGENCY HOLDING THE MEETING: United States International Trade Commission.

TIME AND DATE: June 22, 2000 at 11:00 a.m.

PLACE: Room 101, 500 E Street S.W., Washington, DC 20436, Telephone: (202) 205-2000.

STATUS: Open to the public.

MATTERS TO BE CONSIDERED:

1. Agenda for future meeting: none.

2. Minutes.

3. Ratification List.

4. Inv. No. 731-TA-828 (Final) (Bulk Acetylsalicylic Acid (Aspirin) from China)—briefing and vote. (The Commission will transmit its determination to the Secretary of Commerce on June 30, 2000.)

5. Inv. No. 731-TA-718 (Review) (Glycine from China)—briefing and vote. (The Commission will transmit its determination to the Secretary of Commerce on June 30, 2000.)

6. Inv. Nos. 701-TA-253 and 731-TA-132, 252, 271, 276-277, 296, 409-410, 532-534, and 536-537 (Review) (Certain Pipe and Tube from Argentina, Brazil, Canada, India, Korea, Mexico, Singapore, Taiwan, Thailand, Turkey, and Venezuela)—briefing and vote. (The Commission will transmit its determination to the Secretary of Commerce on July 26, 2000.)

7. Outstanding action jackets: none.

In accordance with Commission policy, subject matter listed above, not disposed of at the scheduled meeting, may be carried over to the agenda of the following meeting.

By order of the Commission.
Issued: June 12, 2000.
Donna R. Koehnke,
Secretary.

[FR Doc. 00-15160 Filed 6-12-00; 1:31 pm]

BILLING CODE 7020-02-P